DEPARTMENT OF THE INTERIOR

National Park Service

[NPS-NER-THRI-10649; 1960-726]

Minor Boundary Revision at Theodore Roosevelt Inaugural National Historic Site

AGENCY: National Park Service, Interior.

ACTION: Notification of Boundary Revision.

SUMMARY: Notice is hereby given that, pursuant to 16 U.S.C. 460l-9(c)(1), the boundary of Theodore Roosevelt Inaugural National Historic Site is modified to include Tract 01-102 containing 0.15 of an acre. The tract is located in Erie County, New York, immediately adjacent to the boundary of the Theodore Roosevelt Inaugural National Historic Site. The boundary revision is depicted on Map No. 442/107,298 dated October 13, 2011. The map is available for inspection at the following locations: National Park Service, Northeast Region Land Resources Division, New England Office, 115 John Street, 5th Floor, Lowell, Massachusetts 01852, and National Park Service, Department of the Interior, Washington, DC 20240.

FOR FURTHER INFORMATION CONTACT: National Park Service, Deputy Realty Officer, Northeast Region Land Resources, New England Office, 115 John Street, 5th Floor, Lowell, Massachusetts 01852, at (978) 970-5260.

DATES: The effective date of this boundary revision is August 15, 2012.

SUPPLEMENTARY INFORMATION: 16 U.S.C. 460l-9(c)(1) provides that after notifying the House Committee on Resources and the Senate Committee on Energy and Resources, the Secretary of the Interior is authorized to make this boundary revision upon publication of notice in the Federal Register. The Committees were notified of this boundary revision by letters signed by the Secretary on May 24, 2012. This boundary revision will restore the Wilcox property to the boundaries that existed at the time of President Theodore Roosevelt's inauguration in 1901 and will improve the visitor experience by enhancing the historic integrity, visibility and appearance of the site.

Dated: June 14, 2012.
Dennis R. Reidenbach,
Regional Director, Northeast Region.

[FR Doc. 2012-20021 Filed 8-14-12; 8:45 am]

BILLING CODE 4312-23-P